DEPARTMENT OF DEFENSE

Defense Acquisition Regulations System

[Docket Number DARS-2016-0024; (OMB Control Number 0704-0332)]

Information Collection Requirement; Defense Federal Acquisition Regulation Supplement; DoD Pilot Mentor-Protege Program

AGENCY: Defense Acquisition Regulations System, Department of Defense (DoD).

ACTION: Notice and request for comments regarding a proposed extension of an approved information collection requirement.

SUMMARY: In compliance with section 3506(c)(2)(A) of the Paperwork Reduction Act of 1995 (44 U.S.C. Chapter 35), DoD announces the proposed extension of a public information collection requirement and seeks public comment on the provisions thereof. DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection under Control Number 0704-0332 for use through September 30, 2016. DoD proposes that OMB extend its approval for use for three additional years beyond the current expiration date.

DATES: DoD will consider all comments received by August 22, 2016.

ADDRESSES: You may submit comments, identified by OMB Control Number 0704-0332, using any of the following methods:

○ Federal eRulemaking Portal: http://www.regulations.gov. Follow the instructions for submitting comments.

○ Email: dfars@mail.mil. Include OMB Control Number 0704-0225 in the subject line of the message.

○ Fax: (571) 372-6094.

○ Mail: Defense Acquisition Regulations System, Attn: Ms. Jennifer Johnson, OUSD(AT&L)DPAP/DARS, Rm. 3B855, 3060 Defense Pentagon, Washington, DC 20301-3060.

Comments received generally will be posted without change to http://www.regulations.gov, including any personal information provided.

FOR FURTHER INFORMATION CONTACT: Ms. Jennifer Johnson, at (571) 372-6100. The information collection requirements addressed in this notice are available on the World Wide Web at: http://www.acq.osd.mil/dpap/dars/dfarspgi/current/index.html. Paper copies are available from Ms. Jennifer Johnson, OUSD (AT&L) DPAP (DARS), Room 3B855, 3060 Defense Pentagon, Washington, DC 20301-3060.

SUPPLEMENTARY INFORMATION:

Title, Associated Form, and OMB Number: Defense Federal Acquisition Regulation Supplement (DFARS) Appendix I, DoD Pilot Mentor-Protege Program; OMB Control Number 0704-0332.

Needs and Uses: DoD needs this information to ensure that participants in the Mentor-Protege Program (“the Program”) are fulfilling their obligations under the mentor-protege agreements and that the Government is receiving value for the benefits it provides through the Program. DoD uses the information as source data for reports to Congress required by section 811(d) of the National Defense Authorization Act for Fiscal Year 2000 (Pub. L. 106-65). Participation in the Program is voluntary.

Affected Public: Businesses and other for-profit entities and not-for-profit institutions.

Number of Respondents: 112.

Responses per Respondent: 1.97.

Annual Responses: 240.

Average Burden per Response: Approximately 1.0 hour.

Annual Response Burden Hours: 240.

Reporting Frequency: Two times per year for mentor firms; one time per year for protege firms.

Summary of Information Collection

DFARS Appendix I, section I-112.2(a)-(d), requires mentor firms to report on the progress made under active mentor-protege agreements semiannually for the periods ending March 31 and September 30. The September 30 report must address the entire fiscal year. Reports must include the following:

(1) Data on performance under the mentor-protege agreement, including dollars obligated, expenditures, subcontracts awarded to the protege firm, developmental assistance provided, impact and progress of the agreement.

(2) A copy of the Individual Subcontracting Report (ISR) or SF 294 and Summary Subcontracting Report (SSR) for each contract where developmental assistance was credited to subcontracting goals.

Section I-112.2(e) requires protege firms to submit reports on an annual basis. Reports must include progress made by the protege firm in employment, revenues, and participation in DoD contracts during each fiscal year of the Program participation term and each of the two fiscal years following the expiration of the Program participation term. During the Program participation term, the protege firms may provide this data to the mentor firm for inclusion in the mentor report required by I-112(a)-(d) for the period ending September 30.

Jennifer L. Hawes,
Editor, Defense Acquisition Regulations System.

[FR Doc. 2016-14619 Filed 6-20-16; 8:45 am]

BILLING CODE 5001-06-P